NATIONAL TRANSPORTATION SAFETY BOARD

Sunshine Act Meeting; Notice

Time and Date: 9:30 a.m., Tuesday, June 28, 2005.

Place: NTSB Board Room, 429 L'Enfant Plaza, SW., Washington, DC 20594.

Status: The one item is Open to the Public.

Matter to be Considered: 7852A—Marine Accident Report—Capsizing of U.S. Small Passenger Vessel Taki-Tooo, Tillamook Bay Inlet, Oregon, June 14, 2003.

News Media Contact: Telephone: (202) 314-6100.

Individuals requesting specific accommodations should contact Ms. Carolyn Dargan at (202) 314-6305 by Friday, June 24, 2005.

The public may view the meeting via a live or archived webcast by accessing a link under “News & Events” on the NTSB home page at http://www.ntsb.gov.

FOR FURTHER INFORMATION CONTACT: Vicky D'Onofrio, (202) 314-6410

Dated: June 17, 2005.
Vicky D'Onofrio,
Federal Register Liason Officer.

[FR Doc. 05-12347 Filed 6-17-05; 2:57 pm]

BILLING CODE 7533-01-M